DEPARTMENT OF THE TREASURY

Customs Service

19 CFR Part 10

[T.D. 02—05]

RIN 1515-AC85

Extension of Deadline To File a Wool Duty Refund Claim for Claim Year 2000

AGENCY: Customs Service, Department of the Treasury.

ACTION: Interim rule.

SUMMARY: This document amends the Customs Regulations on an interim basis to extend the deadline to file a wool duty refund claim for calendar year 2000, as authorized by section 505 of the Trade and Development Act of 2000. The regulations currently require that claims for a wool duty refund for calendar year 2000, except for certain amended claims, should already have been received by Customs by December 31, 2001. This deadline is extended until December 31, 2002, to reflect the fact that proposed legislation is currently pending before Congress which would significantly alter the scope of section 505 in regard to the amount of payment manufacturers would be eligible to receive, as well as the documents that a manufacturer would need to file to be entitled to a refund and, in part, because of the destruction of records at the New York Customshouse on September 11, 2001. The deadline extension is also intended to spare manufacturers from the filing of unnecessary documentation, again, in part, due to the destruction of records in New York. Additionally, Customs is amending the regulations to reflect the new Customs location to which all wool duty refund documentation should be sent.

DATES: This interim rule is effective January 23, 2002. The deadline to file a wool duty refund claim for calendar year 2000 is extended to December 31, 2002. Comments must be received on or before February 7, 2002.

ADDRESSES: Written comments (preferably in triplicate) may be submitted to and inspected at the Regulations Branch, Office of Regulations and Rulings, U.S. Customs Service, 1300 Pennsylvania Avenue, NW., 3rd Floor, Washington, DC 20229. Wool duty refund documentation should be sent to the U.S. Customs Service, Office of Field Operations, Wool Duty Refund Unit, 1300 Pennsylvania Avenue, NW., 5th Floor, Washington, DC 20229.

FOR FURTHER INFORMATION CONTACT: Bruce Ingalls, Chief, Entry and Drawback Management (202) 927-1082.

SUPPLEMENTARY INFORMATION:

Background

On May 18, 2000, President Clinton signed into law the Trade and Development Act of 2000 (“the Act”), Public Law 106-200, 114 Stat. 251. Title V of the Act concerns imports of certain wool articles and sets forth provisions intended to provide tariff relief to U.S. manufacturers of specific wool products. Within Title V, section 505 permits eligible U.S. manufacturers to claim a limited refund of duties paid on imports of select wool articles.

On December 26, 2000, Customs published in the Federal Register (65 FR 81344), as T.D. 01-01, the final rule adding the eligibility, documentation and procedural requirements for obtaining a wool duty refund to § 10.184 of the Customs Regulations (19 CFR 10.184).

On April 23, 2001, Customs published in the Federal Register (66 FR 20392), as T.D.01-33, an interim rule amending § 10.184 regarding the description of the wool products that are eligible to provide the basis for a wool duty refund and the tariff provisions that eligible wool products must be entered under to substantiate a refund.

Extension of Deadline To File a Wool Duty Refund Claim for Calendar Year 2000

Section 10.184(g) of the Customs Regulations sets forth the procedures for filing a wool duty refund claim. Paragraph (g)(1) provides, in pertinent part, that all refund claims, whether original or amended in the absence of a Customs notice of insufficiency or defect, must be received by Customs no later than December 31st of the year following the calendar claim year for which a wool duty refund is being sought. Therefore, pursuant to the existing regulations, all original claims and certain amended claims for calendar year 2000 must be received by Customs no later than December 31st, 2001.

Customs has learned that proposed legislation is currently pending before Congress which would significantly alter the scope of section 505 in regard to the amount of payment manufacturers would be eligible to receive, as well as the documents that a manufacturer would need to file to be entitled to a refund. For this reason, Customs has opted to extend the deadline to file calendar year 2000 claims until December 31, 2002, in an effort to spare manufacturers seeking refunds from the filing of unnecessary documentation.

If legislation is soon passed by Congress that amends section 505 to institute new procedures for filing a claim, Customs will publish another document in the Federal Register that amends § 10.184 to reflect the terms of the legislation, unless the legislation is self-effectuating. If legislation is not passed in the near future, Customs will inform potential claimants how to expedite the refund process under current law. In any event, the document published today should relieve manufacturers of concern that they must file claims by December 31st, 2001, to receive refunds for duties that they paid in the year 2000.

New Customs Address for the Submission of Wool Duty Refund Documentation

Section 10.184(g)(2) directs claimants to submit wool refund claims to Customs at the Residual Liquidation and Protest Branch located at 6 World Trade Center, New York, NY. Due to the events of September 11, 2001, that address no longer functions as a Customs office. This document amends § 10.184(g)(2) to reflect the fact that wool duty refund documentation should be submitted to the U.S. Customs Service, Office of Field Operations, Wool Duty Refund Unit, 1300 Pennsylvania Avenue, NW., 5th Floor, Washington, DC 20229.

Comments

Before adopting this interim regulation as a final rule, consideration will be given to any written comments timely submitted to Customs, including comments on the clarity of this interim rule and how it may be made easier to understand. Comments submitted will be available for public inspection in accordance with the Freedom of Information Act (5 U.S.C. 552), § 1.4 of the Treasury Department Regulations (31 CFR 1.4), and § 103.11(b) of the Customs Regulations (19 CFR 103.11(b)), on regular business days between the hours of 9 a.m. and 4:30 p.m. at the Regulations Branch, Office of Regulations and Rulings, U.S. Customs Service, 1300 Pennsylvania Avenue, NW., 3rd Floor, Washington, DC.

Inapplicability of Prior Public Notice and Comment Procedures and Delayed Effective Date

Because these regulations confer a benefit to the public by extending the deadline to file a wool duty refund claim for calendar year 2000 and redesignate the location to which such claims should be sent, Customs has determined, pursuant to the provisions of 5 U.S.C. 553(b)(B), that prior public notice and comment procedures on this regulation are unnecessary and contrary to the public interest. These regulatory amendments inform the public of changes to the procedures for filing a wool duty refund claim. For this reason, pursuant to the provisions of 5 U.S.C. 553(d)(3), Customs finds that there is good cause for dispensing with a delayed effective date.

Executive Order 12866

This document does not meet the criteria for a “significant regulatory action” as specified in Executive Order 12866.

Regulatory Flexibility Act

Because no notice of proposed rulemaking is required for this interim regulation, the provisions of the Regulatory Flexibility Act (5 U.S.C. 601 et seq.) do not apply.

Paperwork Reduction Act

The collection of information involved in this interim rule has already been approved by the Office of Management and Budget (OMB) in accordance with the requirements of the Paperwork Reduction Act of 1995 (44 U.S.C. 3507) and assigned OMB control number 1515-0227. This rule does not substantively change the existing approved information collection.

An agency may not conduct or sponsor, and a person is not required to respond to, a collection of information unless the collection of information displays a valid control number assigned by OMB.

Drafting Information

The principal author of this document was Suzanne Kingsbury, Regulations Branch, Office of Regulations and Rulings, U.S. Customs Service. However, personnel from other offices participated in its development.

List of Subjects in 19 CFR Part 10

Customs duties and inspection, Imports, Reporting and recordkeeping requirements, Trade agreements.

Amendments to the Regulations

For the reasons stated above, 19 CFR part 10 is amended as follows:

PART 10—ARTICLES CONDITIONALLY FREE, SUBJECT TO A REDUCED RATE, ETC.

1. The general authority citation for part 10 and the specific authority for § 10.184 continue to read as follows:

Authority: 19 U.S.C. 66, 1202 (General Note 22, Harmonized Tariff Schedule of the United States), 1321, 1481, 1484, 1498, 1508, 1623, 1624, 3314.

* * * * *

Section 10.184 is also issued under Sec. 505, Pub. L. 106-200, 114 Stat. 251;

* * * * *

2. In § 10.184, paragraph (g)(1), the third sentence is amended by removing the period after the word “sought” and adding the words “, with the exception of claims for calendar claim year 2000 which may be filed no later than December 31, 2002.”

3. In § 10.184, paragraph (g)(2) is revised to read as follows:

§ 10.184 Refund of duties on certain wool imports.

* * * * *

(g) * * *

(2) Place to file. A claim for a refund of duties paid on imports of eligible wool products must be submitted to: U.S. Customs Service, Office of Field Operations, Wool Duty Refund Unit, 1300 Pennsylvania Avenue, NW., 5th Floor, Washington, DC 20229.

* * * * *

Robert C. Bonner,
Commissioner of Customs.
Approved: January 17, 2002.
Timothy E. Skud,
Acting Deputy Assistant Secretary of the Treasury.

[FR Doc. 02-1664 Filed 1-22-02; 8:45 am]

BILLING CODE 4820-02-P